ENVIRONMENTAL PROTECTION AGENCY

[FRL-7843-7]

Clean Air Act Advisory Committee (CAAAC) Notice of Meeting

Summary: The Environmental Protection Agency (EPA) established the Clean Air Act Advisory Committee (CAAAC) on November 19, 1990, to provide independent advice and counsel to EPA on policy issues associated with implementation of the Clean Air Act of 1990. The Committee advises on economic, environmental, technical scientific, and enforcement policy issues.

Open Meeting Notice: Pursuant to 5 U.S.C. App. 2 section 10 (a) (2), notice is hereby given that the Clean Air Act Advisory Committee will hold its next open meeting on Thursday, December 16, 2004, from approximately 8:30 a.m. to 3:30 p.m. at the Renaissance Mayflower Hotel, 1127 Connecticut Avenue, NW., Washington, DC. Seating will be available on a first come, first served basis. Subcommittee meetings will be held on, December 15, 2004, from approximately 8:30 a.m to 3:30 p.m. at the Renaissance Mayflower, the same location as the full Committee. The Mobile Source Technical Review Panel will not meet at this time. The agenda for the meeting will be posted on the CAAAC Web site: http://www.epa.gov/oar/caaac/.

Inspection of Committee Documents: The Committee agenda and any documents prepared for the meeting will be publicly available at the meeting. Thereafter, these documents, together with CAAAC meeting minutes, will be available by contacting the Office of Air and Radiation Docket and requesting information under docket item A-94-34 (CAAAC). The Docket office can be reached by telephoning 202-260-7548; FAX 202-260-4400.

For Further Information Contact: Concerning the CAAAC , please contact Pat Childers, Office of Air and Radiation, U.S. EPA (202) 564-1082, FAX (202) 564-1352 or by mail at U.S. EPA, Office of Air and Radiation (Mail code 6102 A), 1200 Pennsylvania Avenue, NW., Washington, DC 20004. For information on the Subcommittee meetings, please contact the following individuals: (1) Permits/NSR/Toxics IntegrationB Debbie Stackhouse, 919-541-5354; and (2) Linking Transportation, Land Use and Air Quality Concerns B Robert Larson, 734-214-4277; and (3) Economic Incentives and Regulatory Innovations B Carey Fitzmaurice, 202-564-1667. Additional Information on these meetings, CAAAC and its Subcommittees can be found on the CAAAC Web site: http://www.epa.gov/oar/caaac/.

Dated: November 22, 2004.
Robert D. Brenner,
Principal Deputy Assistant Administrator for Air and Radiation.

[FR Doc. 04-26398 Filed 11-29-04; 8:45 am]

BILLING CODE 6560-50-P